DEPARTMENT OF THE INTERIOR

Bureau of Ocean Energy Management

Notice of Availability of the Proposed Notice of Sale for Cook Inlet Planning Area Outer Continental Shelf Oil and Gas Lease Sale 244; MMAA 104000

AGENCY: Bureau of Ocean Energy Management, Interior.

ACTION: Notice of availability of the Proposed Notice of Sale for Cook Inlet Planning Area Lease Sale 244.

SUMMARY: The Bureau of Ocean Energy Management (BOEM) announces the availability of the Proposed Notice of Sale (NOS) for the proposed Cook Inlet Planning Area Outer Continental Shelf (OCS) Oil and Gas Lease Sale 244 (Cook Inlet Sale 244). This Notice is published pursuant to 30 CFR 556.304(c).

With regard to oil and gas leasing on the OCS, the Secretary of the Interior, pursuant to section 19 of the OCS Lands Act, provides affected States the opportunity to review the Proposed NOS. The Proposed NOS sets forth the proposed terms and conditions of the lease sale, including minimum bids, royalty rates, and rental rates.

DATES: Affected states may comment on the size, timing, and location of proposed Cook Inlet Sale 244 within 60 days following their receipt of the Proposed NOS. The Final NOS will be published in the Federal Register at least 30 days prior to the date of bid opening. Bid opening is currently scheduled for June 21, 2017.

SUPPLEMENTARY INFORMATION: The Proposed NOS for Cook Inlet Sale 244 and a Proposed NOS Package containing information essential to potential bidders may be obtained from the Alaska OCS Region, Bureau of Ocean Energy Management, 3801 Centerpoint Drive, Ste. 500, Anchorage, Alaska 99508. Telephone: (907) 334-5200. The Proposed NOS and Proposed NOS Package also are available on BOEM's Web site at http://www.boem.gov/Sale-244/.

Agency Contact: David Diamond, Chief, Leasing Division, david.diamond@boem.gov.

Dated: February 16, 2017.
Walter D. Cruickshank,
Acting Director, Bureau of Ocean Energy Management.

[FR Doc. 2017-03548 Filed 2-27-17; 8:45 am]

BILLING CODE 4310-MR-P